ELECTION ASSISTANCE COMMISSION

Privacy Act of 1974; Systems of Records

AGENCY: U.S. Election Assistance Commission.

ACTION: Notice of Privacy Act Systems of Records.

SUMMARY: Pursuant to the Privacy Act of 1974, 5 U.S.C. 552a(e)(4) and (11), Federal agencies are required to publish in the Federal Register a notice of the existence and character of systems of records agencies maintain on individuals. In this notice, EAC provides the required information for 5 such systems of records that are not otherwise covered by an existing Government-wide system of records notice. See GOVERNMENT-WIDE SYSTEMS OF RECORDS, below.

DATES: Effective Date: The proposed systems of records and routine uses included in this notice will be effective without further notice on March 8, 2011 unless comments received require a contrary determination.

ADDRESSES: Send written comments to Ms. Stacie Fabre, 1201 New York Avenue, NW., Suite 300, Washington, DC 20005. Comments may also be transmitted by facsimile to Ms. Fabre's attention at (202) 566-5542; or via electronic mail at sfabre@eac.gov, with “Comments on Privacy Act Systems of Records Notice” in the subject line. All comments must be sent or postmarked no later than 11:59 p.m. EDT on March 8, 2011.

FOR FURTHER INFORMATION CONTACT: Ms. Stacie Fabre by telephone at (202) 566-3105, or by electronic mail at sfabre@eac.gov.

SUPPLEMENTARY INFORMATION: The Privacy Act of 1974, at 5 U.S.C. 552a(e)(4) and (11), directs each federal agency to provided notice to the public of systems of records it maintains on individuals. Accordingly, notice is hereby given of 5 systems of records maintained by EAC as described below. This notice also describes proposed routine uses of each system and provides contact information for inquiries. Following is a preliminary statement and the complete text of the 5 EAC systems of records. Of note, EAC maintains Federal Advisory Committee Act records for three statutory boards: (1) Board of Advisors; (2) Standards Board; and (3) Technical Guidelines Development Committee. However, EAC has not established systems of records for these boards because personally-identifiable information generated by EAC's business with its boards is maintained either in a government-wide system of records or in one of the 5 EAC systems of records.

Thomas R. Wilkey,
Executive Director, U.S. Election Assistance Commission.

NOTICE OF SYSTEMS OF RECORDS; PRELIMINARY STATEMENT GOVERNMENT-WIDE SYSTEMS OF RECORDS:

In addition to the internal systems of records described below, the U.S. Election Assistance Commission (EAC) also maintains certain records covered by existing government-wide systems of records. Government-wide systems of records are established by federal agencies that are responsible for government-wide functions. Examples of agencies with government-wide functions are the Office of Personnel Management, the Office of Government Ethics, and the Department of Labor. Government-wide systems of records are described in notices published by the establishing agencies. While the establishing agency creates and administers the system, the actual records are physically maintained by agencies throughout the government. Requests for EAC records covered by a government-wide system of records should be directed to EAC pursuant to EAC's Privacy Act regulations at 11 CFR part 9410. In accordance with Office of Management and Budget (OMB) Circular No. A-130, EAC is not creating or publishing notices for the government-wide functions described in the following systems of records notices:

(1) DOL/GOVT-1: Office of Worker's Compensation Programs, Federal Employees' Compensation Act File, 67 FR 16815 (April 8, 2002);

(2) DOT/ALL-8: Employee Transportation Facilitation, 65 FR 19475 (April 11, 2000);

(3) EEOC/GOVT-1: Equal Employment Opportunity in the Federal Government Complaint and Appeal Records, 67 FR 49338 (July 30, 2002);

(4) EPA-GOVT-2: Federal Docket Management System (FDMS), 70 FR 15086 (March 24, 2005);

(5) GSA/GOVT-2: Employment Under Commercial Activities Contracts, 48 FR 6176 (February 10, 1983);

(6) GSA/GOVT-3: Travel Charge Card Program, 69 FR 4517 (January 30, 2004);

(7) GSA/GOVT-4: Contracted Travel Services Program, 71 FR 48764 (August 2, 2006);

(8) GSA/GOVT-5: Access Certificates for Electronic Services, 64 FR 29032 (May 8, 1999);

(9) GSA/GOVT-6: GSA SmartPay Purchase Charge Card Program, 71 FR 64707 (November 3, 2006);

(10) GSA/GOVT-7: Personal Identity Verification Identity Management System (PIV IDMS), 71 FR 56983 (September 28, 2006);

(11) GSA/GOVT-8: Excluded Parties List System (EPLS), 71 FR 70515 (December 5, 2006);

(12) MSPB/GOVT-1: Appeals and Case Records, 67 FR 70254 (November 21, 2002);

(13) OGE/GOVT-1: Executive Branch Public Financial Disclosure Reports and Other Name-Retrieved Ethics Program Records, 68 FR 3097 (January 22, 2003), 68 FR 24722 (May 8, 2003);

(14) OGE/GOVT-2: Executive Branch Confidential Financial Disclosure Reports, 68 FR 3097 (January 22, 2003), 68 FR 24722 (May 8, 2003);

(15) OPM/GOVT-1: General Personnel Records, 71 FR 35356 (June 19, 2006);

(16) OPM/GOVT-2: Employee Performance File System Records, 65 FR 24732 (April 27, 2000);

(17) OPM/GOVT-3: Records of Adverse Actions, Performance Based Reduction in Grade and Removal Actions, and Terminations of Probationers, 65 FR 24732 (April 27, 2000);

(18) OPM/GOVT-5: Recruiting, Examining, and Placement Records, 71 FR 35351 (June 19, 2006);

(19) OPM/GOVT-9: File on Position Classification Appeals, Job Grading Appeals, and Retained Grade or Pay Appeals, and Fair Labor Standards Act (FLSA) Claims and Complaints, 71 FR 35358 (June 19, 2006);

(20) OPM/GOVT-10: Employee Medical File System Records, 75 FR 35099 (June 21, 2010); and

(21) OSC/GOVT-1: OSC Complaint Litigation and Political Activity Files, 64 FR 63359 (November 19, 1999).

STATEMENT OF GENERAL ROUTINE USES:

In addition to the disclosures permitted pursuant to 5 U.S.C. 552a(b), EAC hereby gives notice of the following general routine uses. These general routine uses are incorporated by reference into each system of records described in this notice. Routine uses described in a specific system of records in this notice are in addition to the list of the following general routine uses; unless the routine use described in a specific system of records in this notice expressly supersedes the following general routine uses.

(1) In the event that a record in a system indicates any violation or potential violation of the law, whether civil, criminal, or regulatory in nature, and whether arising by statute, or by regulation, rule, or order issued pursuant thereto, the relevant record may be referred by authorized EAC personnel as a routine use to the appropriate agency, whether Federal state, local, or foreign, charged with the responsibility for investigating or prosecuting such violation, or charged with enforcing or implementing the statute, rule, regulation, or order issued pursuant thereto. Such referral shall also include and be deemed to authorize any and all appropriate and necessary uses of such record in a court of law or before an administrative board or hearing.

(2) A record covered by a system may be disclosed by authorized EAC personnel as a routine use to designated officers and employees of other agencies and Departments of the federal government having an interest in the individual for employment purposes, including, but not limited to, the hiring or retention of any employee, the issuance of a security clearance, the letting of a contract, or the issuance of a license, grant, or other benefit by the requesting agency, to the extent that the information is relevant and necessary to the requesting agency's decision on the matter involved.

(3) Disclosure of information by authorized EAC personnel to the Department of Justice, or in a proceeding before a court, adjudicative body, or other administrative body before which EAC is authorized or required to appear, when:

(a) EAC, or any component thereof; or

(b) Any employee of EAC in his or her official capacity; or

(c) Any employee of EAC in his or her individual capacity where the Department of Justice or EAC has agreed to represent the employee; or

(d) The United States, when EAC determines litigation is likely to affect EAC or any of its components, is a party to litigation or has an interest in such litigation, and EAC determines that the use of such records by the Department of Justice or EAC is relevant and necessary to the litigation; provided, however, that in each case EAC determines that the disclosure is compatible with the purpose for which the records were collected;

(4) Any record in any system of records may be disclosed by authorized EAC personnel as a routine use to the National Archives and Records Administration in the course of records management inspections conducted under the authority of 44 U.S.C. 2904 and 2096.

(5) Information from any system of records may be released by authorized EAC personnel to internal or external auditors in the conduct of an audit of EAC operations or accounts, but only to the extent that the information is relevant to and necessary for the conduct of the audit.

(6) Information from any system of records may be released by authorized EAC personnel to General Services Administration (GSA) staff so that GSA may carry out various small agency support services. These services include, but are not limited to, payroll processing, debt collection, timekeeping, benefits administration, processing and paying invoices, and obligating funds.

Information from any system of records may be released by authorized EAC personnel to the Office of the Inspector General (OIG), to the extent necessary to comply with an authorized OIG oversight function.

STORAGE:

These records are maintained in hard copy files in locked file cabinets when not in immediate use; in electronic format on servers, data disks, and encrypted thumb drives with controlled access.

NOTIFICATION PROCEDURES:

Any individual may request the Commission to inform him or her whether a particular record system named by the individual contains a record pertaining to him or her. The request may be made in person or in writing at the location of the record system and to the person specified in the notice describing that record system. Requests concerning whether a government-wide system or records maintained by EAC contains information pertaining to the requester may be made in-person or by sending the request to the Executive Director, U.S. Election Assistance Commission, 1201 New York Avenue, NW., Suite 300, Washington, DC 20005. In the case where an individual believes EAC maintains records pertaining to him or her but cannot determine which record system contains those records, the individual may request assistance in-person or by sending the request to the Executive Director, U.S. Election Assistance Commission, 1201 New York Avenue, NW., Suite 300, Washington, DC 20005.

RECORD ACCESS PROCEDURES:

Individuals wishing to access their records should contact EAC as specified in the Notification Procedure, above; and in EAC's Privacy Act regulations at 11 CFR 9410. Individuals must furnish all of the information specified at 11 CFR 9410.3-11 CFR part 9410.5 for their records to be located and identified. Requesters must also provide proof of their identity prior to receiving access to a record, pursuant to 11 CFR 9410.4.

CONTESTING RECORDS PROCEDURES:

Individuals wishing to request amendment or correction of their records in a system of records maintained by EAC should contact the appropriate system manager, as described above. Individuals must furnish all of the information specified in the Notification Procedure, and comply with EAC's Privacy Act regulations at 11 CFR part 9410 to ensure that their records can be identified and located.

EAC-1

SYSTEM NAME:

Employee Pay and Leave Record Files.

SYSTEM LOCATION:

Located in hard copy files at 1201 New York Avenue, NW., Suite 300, Washington, DC 20005; in electronic format on secured servers, data disks, and encrypted thumb drives with controlled access. EAC enters pay and leave information onto a General Services Administration (GSA)-maintained system. See GSA's Privacy Act systems of records notices for GSA's system location and associated information.

CATEGORIES OF INDIVIDUALS COVERED BY THE SYSTEM:

EAC employees and personal services contractors.

CATEGORIES OF RECORDS IN THE SYSTEM:

Records regarding time and attendance and pay.

AUTHORITY FOR MAINTENANCE OF THE SYSTEM:

The Budget and Accounting Procedures Act of 1950, as amended. 31 U.S.C. 3511, et seq.

PURPOSE:

To provide a system whereby EAC can track employees' payroll and leave information.

ROUTINE USES OF RECORDS MAINTAINED IN THE SYSTEM, INCLUDING CATEGORIES OF USERS AND THE PURPOSES OF SUCH USES:

Information from these records is routinely provided to (1) the General Services Administration for accounting, payroll, and debt collection purposes; (2) the U.S. Department of the Treasury for payroll, (3) the Internal Revenue Service for tax deductions and withholding, and (4) participating insurance companies holding policies with respect to EAC employees. See also General Routine Uses contained in the Preliminary Statement. Users include Human Resources personnel within EAC for the purpose of administering the agency's time and attendance process; designated EAC staff for the purpose of entering time and attendance information into the GSA-maintained system; and EAC managers and supervisors for the purpose of certifying time and attendance data for their respective employees.

POLICIES AND PRACTICES FOR STORING, RETRIEVING, ACCESSING, RETAINING, AND DISPOSING OF RECORDS IN THE SYSTEM:

STORAGE:

Records are maintained in file folders in locked file cabinets in Human Resources staff offices. Copies of individual time and attendance records may be maintained by designated agency timekeepers and are stored in locked file cabinets. Electronic records are maintained in a secure password protected environment and maintained with safeguards meeting the security requirements of the Federal Information Security Management Act (FISMA) of 2002.

RETRIEVABILITY:

Records are retrieved by last name.

SAFEGUARDS:

EAC staff maintain hard copy files in locked file cabinets in controlled access offices located in the Human Resources Division. Human Resources staff who telecommute may possess hard copy files (or copies of such files) at alternative worksites and are provided instructions concerning how to maintain such information in a secure manner. EAC staff maintain electronic files in a controlled access environment. System managers determine user permission levels based on staff duties and responsibilities. Only those staff authorized to perform tasks associated with information contained in this system of records have permission to access and maintain these files. Network users are also notified when they log in to EAC systems that improper use of EAC electronic systems may violate applicable law and subject employees to disciplinary action. EAC staff who access electronic files remotely may only do so by connecting to EAC's servers via a secure remote password-protected connection.

RETENTION AND DISPOSAL:

Records in this system are maintained in accordance with the applicable National Archives and Records Administration Records Schedule.

SYSTEM MANAGER(S) AND ADDRESS:

Human Resources Director, U.S. Election Assistance Commission, 1201 New York Avenue, NW., Suite 300, Washington, DC 20005.

NOTIFICATION PROCEDURE:

See Preliminary Statement.

RECORD ACCESS PROCEDURES:

See Preliminary Statement.

CONTESTING RECORD PROCEDURES:

See Preliminary Statement.

RECORD SOURCE CATEGORIES:

EAC employees and personal services contractors.

EXEMPTIONS CLAIMED FOR THE SYSTEM:

None.

EAC-2

SYSTEM NAME:

Freedom of Information Act (FOIA) and Privacy Act (PA) Request Files.

SYSTEM LOCATION:

Located in hard copy files at 1201 New York Avenue, NW., Suite 300, Washington, DC 20005; in electronic format on secured servers, data disks, and encrypted thumb drives with controlled access.

CATEGORIES OF INDIVIDUALS COVERED BY THE SYSTEM:

Persons who have submitted Privacy Act requests, Freedom of Information Act requests, or correspondence concerning such requests.

CATEGORIES OF RECORDS IN THE SYSTEM:

Correspondence, formal requests, research, legal memoranda, written decisions, and appeals of agency decisions for FOIA and PA requests.

AUTHORITY FOR MAINTENANCE OF THE SYSTEM:

The Privacy Act of 1974, 5 U.S.C. 552a; the Freedom of Information Act, 5 U.S.C. 552.

PURPOSE:

To maintain files of FOIA/PA requests for annual reports and tracking.

ROUTINE USES OF RECORDS MAINTAINED IN THE SYSTEM, INCLUDING CATEGORIES OF USERS AND THE PURPOSES OF SUCH USES:

Information from these records is routinely provided to FOIA requesters and Privacy Act requesters; individuals named in the FOIA request; EAC staff assigned to help process, consider, and respond to such requests, including any appeals. Information may also be provided to the United States Attorney General or other federal officials to fulfill EAC's annual reporting requirements; or to Congressional members, Committees, or staff in response to a Congressional request.

POLICIES AND PRACTICES FOR STORING, RETRIEVING, ACCESSING, RETAINING, AND DISPOSING OF RECORDS IN THE SYSTEM:

STORAGE:

Hard copy records are maintained in file folders in locked cabinets in FOIA Officer, Privacy Act Officer, and Office of General Counsel staff offices. Materials responsive to a FOIA or Privacy Act request are also maintained by each individual respondent in locked file cabinets. Electronic records are maintained in a secure password protected environment and maintained with safeguards meeting the security requirements of the Federal Information Security Management Act (FISMA) of 2002.

SAFEGUARDS:

EAC staff maintain hard copy files in locked file cabinets in controlled access offices by FOIA Officers, the Privacy Act Officer, the Office of the General Counsel offices. EAC staff maintain electronic files in a controlled access environment. System managers determine user permission levels based on staff duties and responsibilities. Only those staff authorized to perform tasks associated with information contained in this system of records have permission to access and maintain these files. Network users are also notified when they log in to EAC systems that improper use of EAC electronic systems may violate applicable law and subject employees to disciplinary action. EAC staff who access electronic files remotely may only do so by connecting to EAC's servers via a secure remote password-protected connection.

RETRIEVABILITY:

Records are retrieved by number and year.

RETENTION AND DISPOSAL:

Records in this system are maintained in accordance with the applicable National Archives and Records Administration Records Schedule.

SYSTEM MANAGER(S) AND ADDRESS:

For FOIA: Chief FOIA Officer, U.S. Election Assistance Commission, 1201 New York Avenue, NW., Suite 300, Washington, DC 20005. For Privacy Act: Privacy Act Officer, U.S. Election Assistance Commission, 1201 New York Avenue, NW., Suite 300, Washington, DC 20005.

NOTIFICATION PROCEDURE:

See Preliminary Statement.

RECORD ACCESS PROCEDURES:

See Preliminary Statement.

CONTESTING RECORD PROCEDURES:

See Preliminary Statement.

RECORD SOURCE CATEGORIES:

Information in this system is obtained from documents submitted by individuals, and in some cases, organizations, requesting information related to FOIA or the Privacy Act. Sources also include EAC employees in some instances.

EXEMPTIONS CLAIMED FOR THE SYSTEM:

None.

EAC-3

SYSTEM NAME:

Financial Management Files.

SYSTEM LOCATION:

Located in hard copy files at 1201 New York Avenue, NW., Suite 300, Washington, DC 20005; in electronic format on secured servers, data disks, and encrypted thumb drives with controlled access. EAC transmits payment, obligation, and financial information to the General Services Administration (GSA) in hard copy and electronically for processing. See GSA's Privacy Act systems of records notices for GSA's system location and associated information.

CATEGORIES OF INDIVIDUALS COVERED BY THE SYSTEM:

Individuals with whom EAC conducts financial transactions that are not otherwise covered by a government-wide system of records. This system of records does not cover individuals serving as personal services contractors. See Government-wide systems of records notices and notice EAC-1 for records concerning individuals who are personal services contractors.

CATEGORIES OF RECORDS IN THE SYSTEM:

Correspondence, banking and financial information, invoices, legal memoranda, and other records associated with EAC's financial management functions.

AUTHORITY FOR MAINTENANCE OF THE SYSTEM:

The Budget and Accounting Procedures Act of 1950, as amended. 31 U.S.C. 3511, et seq.

PURPOSE:

Information in this system is used to facilitate day-to-day financial management operations and for purposes of review, analysis, and planning by financial management personnel. Data in this system may also be used to prepare financial statements and other reports concerning obligations and payments from EAC appropriated funds.

ROUTINE USES OF RECORDS MAINTAINED IN THE SYSTEM, INCLUDING CATEGORIES OF USERS AND THE PURPOSES OF SUCH USES:

Data may be disclosed to the U.S. Department of Justice, the Department of the Treasury, the General Services Administration, or the Government Accountability Office (GAO) in connection with payment and debt collection activities. Information may also be disclosed to Office of the Inspector General personnel and independent outside auditors in conjunction with reviewing EAC financial management controls and statements. Users include financial management personnel for purposes of administrating EAC funds; and other EAC personnel with responsibilities for overseeing financial management and internal control functions.

POLICIES AND PRACTICES FOR STORING, RETRIEVING, ACCESSING, RETAINING, AND DISPOSING OF RECORDS IN THE SYSTEM:

STORAGE:

Records are maintained in file folders in locked file cabinets in Procurement and financial management staff offices. Electronic records are maintained in a secure password protected environment and maintained with safeguards meeting the security requirements of the Federal Information Security Management Act (FISMA) of 2002.

SAFEGUARDS:

EAC staff maintain hard copy files in locked file cabinets in controlled access offices by financial management staff. EAC staff maintain electronic files in a controlled access environment. System managers determine user permission levels based on staff duties and responsibilities. Only those staff authorized to perform tasks associated with information contained in this system of records have permission to access and maintain these files. Network users are also notified when they login to EAC systems that improper use of EAC electronic systems may violate applicable law and subject employees to disciplinary action. EAC staff who access electronic files remotely may only do so by connecting to EAC's servers via a secure remote password-protected connection.

RETRIEVABILITY:

Records are retrieved by name and by Tax Identification Number.

RETENTION AND DISPOSAL:

Records in this system are maintained in accordance with the applicable National Archives and Records Administration Records Schedule.

SYSTEM MANAGER(S) AND ADDRESS:

Executive Director, U.S. Election Assistance Commission, 1201 New York Avenue, NW., Suite 300, Washington, DC 20005. After receipt, the Executive Director will direct records requests to the appropriate financial management staff with responsibility for the specific records that are the subject of the request.

NOTIFICATION PROCEDURE:

See Preliminary Statement.

RECORD ACCESS PROCEDURES:

See Preliminary Statement.

CONTESTING RECORD PROCEDURES:

See Preliminary Statement.

RECORD SOURCE CATEGORIES:

Information in this system is obtained from documents submitted by individuals covered by the system as well as documents issued by EAC financial management staff.

EXEMPTIONS CLAIMED FOR THE SYSTEM:

None.

EAC-4

SYSTEM NAME:

Election Assistance Commission Federal Financial Assistance and HAVA Grantee Files.

SYSTEM LOCATION:

Located in hard copy files at 1201 New York Avenue, NW., Suite 300, Washington, DC 20005; in electronic format on secured servers, data disks, and encrypted thumb drives with controlled access.

CATEGORIES OF INDIVIDUALS COVERED BY THE SYSTEM:

Individuals with whom EAC does business for purposes of providing Federal financial assistance and awarding grants.

CATEGORIES OF RECORDS IN THE SYSTEM:

Grantee, federal financial assistance, and peer reviewer applications, financial and banking information, correspondence, and legal memoranda.

AUTHORITY FOR MAINTENANCE OF THE SYSTEM:

The Budget and Accounting Procedures Act of 1950, as amended. 31 U.S.C. 3511, et seq.

PURPOSE:

The information in this system is used to issue grant solicitations, analyze grant applications, make award decisions, and manage and oversee grantees. Information in this system is also used to perform all administrative functions related to EAC's other Federal financial assistance programs.

ROUTINE USES OF RECORDS MAINTAINED IN THE SYSTEM, INCLUDING CATEGORIES OF USERS AND THE PURPOSES OF SUCH USES:

Data in this system is used to administer all aspects of EAC's federal financial assistance and grant-making programs; and to conduct statistical research or analyze trends associated with these activities. Data may also be used to assist with Congressional oversight of Federal funds administered by EAC. Data may be shared with the Department of Health and Human Services (HHS) to enable HHS to service EAC grant recipients. Data may be disclosed to the Department of Justice, the U.S. Department of the Treasury, or the Government Accountability Office (GAO) in connection with payment and debt collection activities. Information may also be disclosed to GAO in connection with grant administration and audit activities within GAO's jurisdiction; and to the National Institute of Standards and Technology (NIST) in conjunction with joint EAC/NIST grant activities. Access to records in the system is limited to authorized personnel whose official duties require such access. Permission level assignments allow users access only to those functions for which they are authorized.

POLICIES AND PRACTICES FOR STORING, RETRIEVING, ACCESSING, RETAINING, AND DISPOSTING OF RECORDS IN THE SYSTEM:

STORAGE:

Records are maintained in file folders in locked file cabinets in financial management, grants, testing and certification, and research policies and programs staff offices. Electronic records are maintained in a secure password protected environment and maintained with safeguards meeting the security requirements of the Federal Information Security Management Act (FISMA) of 2002.

SAFEGUARDS:

EAC staff maintain hard copy files in locked file cabinets in controlled access offices by Grants; Research, Policy, and Programs; Testing and Certification; and financial management staff. Electronic data is stored on magnetic media in a computer system with controlled access that requires passwords and identity authentication for users. EAC staff maintain electronic files in a controlled access environment. System managers determine user permission levels based on staff duties and responsibilities. Only those staff authorized to perform tasks associated with information contained in this system of records have permission to access and maintain these files. Network users are also notified when they login to EAC systems that improper use of EAC electronic systems may violate applicable law and subject employees to disciplinary action. EAC staff who access electronic files remotely may only do so by connecting to EAC's servers via a secure remote password-protected connection.

RETRIEVABILITY:

Records are retrieved by name and by Tax Identification Number.

RETENTION AND DISPOSAL:

Records in this system are maintained in accordance with the applicable National Archives and Records Administration Records Schedule.

SYSTEM MANAGER(S) AND ADDRESS:

Executive Director, U.S. Election Assistance Commission, 1201 New York Avenue, NW., Suite 300, Washington, DC 20005. After receipt, the Executive Director will direct records requests to the appropriate division staff with responsibility for the specific Federal financial management or grants records that are the subject of the request.

NOTIFICATION PROCEDURE:

See Preliminary Statement.

RECORD ACCESS PROCEDURES:

See Preliminary Statement.

CONTESTING RECORD PROCEDURES:

See Preliminary Statement.

RECORD SOURCE CATEGORIES:

Information in this system is obtained from documents submitted by individuals covered by the system as well as documents issued by EAC financial management staff.

EXEMPTIONS CLAIMED FOR THE SYSTEM:

None.

EAC-5

SYSTEM NAME:

Agency Correspondence and Public Comments.

SYSTEM LOCATION:

Located in hard copy files at 1201 New York Avenue, NW., Suite 300, Washington, DC 20005; in electronic format on secured servers, data disks, and encrypted thumb drives with controlled access.

CATEGORIES OF INDIVIDUALS COVERED BY THE SYSTEM:

Individuals who correspond with EAC and its employees in their official capacity; or who submit public comments to EAC in response to a solicitation.

CATEGORIES OF RECORDS IN THE SYSTEM:

Correspondence to and from EAC and its employees in their official capacity. Records in this system of records may include comments specifically solicited by EAC; or comments sent to EAC absent a specific solicitation.

AUTHORITY FOR MAINTENANCE OF THE SYSTEM:

5 U.S.C. 301.

PURPOSE:

To maintain and track incoming and outgoing correspondence between individuals and EAC and its employees in their official capacity.

ROUTINE USES OF RECORDS MAINTAINED IN THE SYSTEM, INCLUDING CATEGORIES OF USERS AND THE PURPOSES OF SUCH USES:

Disclosure may be made to a Congressional office from the record of an individual in response to an inquiry from the Congressional office made at the request of that individual. Records may also be disclosed to temporary employees, contingent employees, personal services contractors, and other individuals performing duties for EAC but not having agency employee status; when such individuals need access to the records to perform the agency functions assigned to them. Any record in this system may be used by EAC staff in connection with their official duties or to any person who is utilized by the Commission to perform clerical or administrative functions relating to official EAC business.

POLICIES AND PRACTICES FOR STORING, RETRIEVING, ACCESSING, RETAINING, AND DISPOSING OF RECORDS IN THE SYSTEM:

STORAGE:

Records are maintained in file folders in locked file cabinets in staff offices. Electronic records are maintained in a secure password protected environment and maintained with safeguards meeting the security requirements of the Federal Information Security Management Act (FISMA) of 2002.

SAFEGUARDS:

EAC staff maintain hard copy files in locked file cabinets in controlled access offices by division, depending on the type and subject matter of the correspondence. EAC staff maintain electronic files in a controlled access environment. System managers determine user permission levels based on staff duties and responsibilities. Only those staff authorized to perform tasks associated with information contained in this system of records have permission to access and maintain these files. Network users are also notified when they log in to EAC systems that improper use of EAC electronic systems may violate applicable law and subject employees to disciplinary action. EAC staff who access electronic files remotely may only do so by connecting to EAC's servers via a secure remote password-protected connection.

RETRIEVABILITY:

Records are generally retrieved by name, but may be retrieved by date of correspondence, subject matter, or tracking number, depending on which EAC division maintains the record.

RETENTION AND DISPOSAL:

Records in this system are maintained in accordance with the applicable National Archives and Records Administration Records Schedule.

SYSTEM MANAGER(S) AND ADDRESS:

Executive Director, U.S. Election Assistance Commission, 1201 New York Avenue, NW., Suite 300, Washington, DC 20005. After receipt, the Executive Director will direct records requests to the appropriate division staff with responsibility for the specific federal financial management or grants records that are the subject of the request.

NOTIFICATION PROCEDURE:

See Preliminary Statement.

RECORD ACCESS PROCEDURES:

See Preliminary Statement.

CONTESTING RECORD PROCEDURES:

See Preliminary Statement.

RECORD SOURCE CATEGORIES:

Information in this system is obtained from documents submitted by individuals covered by the system. Information in this system may also come from documents created by EAC staff.

EXEMPTIONS CLAIMED FOR THE SYSTEM:

None.

Thomas R. Wilkey,
Executive Director, U.S. Election Assistance Commission.

[FR Doc. 2011-1811 Filed 1-26-11; 8:45 am]

BILLING CODE 6820-KF-P